FEDERAL COMMUNICATIONS COMMISSION

47 CFR Part 76

[MM Docket No. 99-325; FCC 07-33]

Digital Audio Broadcasting Systems and Their Impact on the Terrestrial Radio Broadcast Service

AGENCY: Federal Communications Commission.

ACTION: Final rule; announcement of effective date.

SUMMARY: This document announces the effective dates of rules published in the Federal Register. The rules relate to Digital Audio Broadcasting Systems, and the notification that those entities must provide the Federal Communications Commission when they commence broadcasting digital signals.

DATES: The final rules published on August 15, 2007 (72 FR 45670), amending 47 CFR 73.404(b), 73.404(e), and 73.1201, are effective January 22, 2008.

FOR FURTHER INFORMATION CONTACT: For additional information on this proceeding, contact Ann Gallagher, Ann.Gallagher@fcc.gov, 202-418-2716, of the Media Bureau, Audio Division, or Brendan Murray, Brendan.Murray@fcc.gov, (202) 418-2120, of the Media Bureau, Policy Division.

SUPPLEMENTARY INFORMATION: In a Second Report and Order released on May 31, 2007, FCC 07-33, and published in the Federal Register on August 15, 2007, 72 FR 45670, the Federal Communications Commission adopted a new rule which contained information collection requirements subject to the Paperwork Reduction Act. The Second Report and Order stated that the rule changes requiring OMB approval would become effective immediately upon announcement in the Federal Register of OMB approval. On December 10, 2007, the Office of Management and Budget (OMB) approved the information collection requirements contained in 47 CFR 73.404(b), 73.404(e), and 73.1201. This information collection is assigned OMB Control Nos. 3060-0466 and 3060-1034. This publication satisfies the statement that the Commission would publish a document announcing the effective date of the rule changes requiring OMB approval.

Federal Communications Commission.
Marlene H. Dortch,
Secretary.

[FR Doc. E8-1008 Filed 1-18-08; 8:45 am]

BILLING CODE 6712-01-P